DEPARTMENT OF HEALTH AND HUMAN SERVICES

National Institutes of Health

Submission for OMB Review; Comment Request; Evaluation of the NIAID HIV Vaccine Research Education Initiative

SUMMARY: Under the provisions of Section 3507(a)(1)(D) of the Paperwork Reduction Act of 1995, the National Institute of Allergy and Infectious Diseases (NIAID), the National Institutes of Health (NIH) has submitted to the Office of Management and Budget (OMB) a request to review and approve the information collection listed below. This proposed information collection was previously published in the Federal Register on July 16, 2009, page 34580 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Evaluation of the NIAID HIV Vaccine Research Education Initiative. Type of Information Collection Request: NEW. Need and Use of Information Collection: To address the need for volunteers in HIV vaccine clinical trials, and enable NIAID to fulfill its Congressional mandate to prevent infectious diseases like HIV/AIDS, NIAID created the NIAID HIV Vaccine Research Education Initiative (NHVREI). The goal of NHVREI is to increase knowledge about and support for HIV vaccine research among U.S. populations most heavily affected by HIV/AIDS—in particular, African Americans, Hispanics/Latinos, men who have sex with men (MSM), women and youth, recognizing the intersection of these groups.

NIAID is planning an evaluation of NHVREI to assess (a) implementation of NHVREI (i.e., process evaluation) and (b) impact (i.e., outcomes evaluation) of NHVREI on awareness of, knowledge about, and support for HIV vaccine research among NHVREI primary audiences (i.e., partner organizations, key influencers) that work with target populations.

A survey will be conducted with key influencers of the NHVREI target populations to measure their level of awareness, knowledge about, and support for HIV vaccine research. Focus groups will also be conducted with representatives of organizations receiving grants through the NHVREI Local Partnership Program (LPP) and National Partnership Program (NPP), as well as representatives from a broader group of organizations called the NHVREI Network. The purpose of conducting focus groups with LPP, NPP, and NHVREI Network representatives is to obtain data on their experience implementing NHVREI activities. Questions asked during the group discussions will address efforts implementing educational activities and developing materials, community partnerships developed, engagement of key influencers in program activities, and the types of media outreach and capacity building engaged in. Frequency of Response: Twice. Affected Public: Individuals. Type of Respondents: Key influencers of target populations. The annual reporting burden is shown in the table below. There are no Capital Costs to report. There are no Operating or Maintenance Costs to report.

Type of respondents | Form name | Estimated number of respondents | No. of responses per respondent | Average burden hours per response | Estimated total annual burden hours requested
| Time 1
LPP, NPP, and NHVREI Network | Focus Groups | 78 | 1 | 1 | 78
Key Influencers | Survey | 656 | 1 | 0.33 | 216
| Total Time 1 | 734 |  |  | 294
| Time 2
LPP, NPP, and NHVREI Network | Focus Groups | 78 | 1 | 1 | 78
Key Influencers | Survey | 590 | 1 | 0.33 | 195
| Total Time 2 | 668 |  |  | 273
| Total Time 1 & Time 2 | 1,402 |  |  | 567

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact Katharine Kripke, Assistant Director, Vaccine Research Program, Division of AIDS, NIAID, NIH, 6700B Rockledge Dr., Bethesda, MD 20892-7628, or call non-toll-free number 301-402-0846, or E-mail your request, including your address to NIAIDSurvey@nih.gov.

Comments Due Date: Comments regarding this information collection are best assured of having their full effect if received within 30 days of the date of this publication.

Dated: October 8, 2009.
John J. McGowan,
Deputy Director for Science Management NIAID.

[FR Doc. E9-24873 Filed 10-15-09; 8:45 am]

BILLING CODE 4140-01-P